FEDERAL COMMUNICATIONS COMMISSION

47 CFR Part 73

[DA 06-1760; MB Docket No. 06-52; RM-11318]

Radio Broadcasting Services; Flora, MS

AGENCY: Federal Communications Commission.

ACTION: Final rule.

SUMMARY: In response to a Notice of Proposed Rule Making, this Report and Order denies a Petition for Rule Making requesting that Channel 280A be allotted to Flora, Mississippi, because no party filed comments expressing an interest in the allotment. It also dismisses a Counterproposal requesting that Channel 280A be allotted to Hermanville, Mississippi, because the Counterproposal was filed past the due date. Even if the Counterproposal were considered on the merits, it would be denied as short spaced to an authorized FM broadcast station at the time the Counterproposal was filed.

DATES: Effective October 20, 2006.

ADDRESSES: Federal Communications Commission, 445 12th Street, SW., Washington, DC 20554.

FOR FURTHER INFORMATION CONTACT: R. Barthen Gorman, Media Bureau, (202) 418-2180.

SUPPLEMENTARY INFORMATION: This is a synopsis of the Commission's Report and Order, MB Docket No. 06-52, adopted August 31, 2006, and released September 1, 2006. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. This document is not subject to the Congressional Review Act. (The Commission is, therefore, not required to submit a copy of this Report and Order to GAO pursuant to the Congressional Review Act, see 5 U.S.C. 801(a)(1)(A), because the proposed rule is denied.)

List of Subjects in 47 CFR Part 73

Radio, Radio broadcasting.

Federal Communications Commission.
John A. Karousos,
Assistant Chief, Audio Division, Media Bureau.

[FR Doc. E6-15532 Filed 9-19-06; 8:45 am]

BILLING CODE 6712-01-P